ENVIRONMENTAL PROTECTION AGENCY

[ER-FRL-6608-4]

Environmental Impact Statements; Notice of Availability

Responsible Agency:

Office of Federal Activities, General Information (202) 564-7167 www.epa.gov/oeca/ofa.

Weekly Receipt of Environmental Impact Statements

Filed June 12, 2000 through June 16, 2000

Pursuant to 40 CFR 1506.9.

EIS No. 000189, Draft EIS, FHW, IL, MO, Chicago-St. Louis High-Speed Rail Project, Improvement from Chicago to St. Louis to enhance the Passenger Transportation Network, NPDES Permit and COE Section 404 Permit, Cook, Will, Kankakee Grundy, Livington, McLean, Sangemon, Macoupin, Jersey, Madison and St. Louis Counties, IL and St. Louis County, MO, Due: August 07, 2000, Contact: Jon Paul-Kohler (217) 492-4988.

EIS No. 000190, Final EIS, FRC, CA, Potter Valley Project Proposed Changes in Minimum Flow Requirements, License Amendment, (FERC Project No. 77-110), Lake and Mendocino Counties, CA, Due: July 24, 2000, Contact: John M. Mudre (202) 219-1208.

EIS No. 000191, Final EIS, DOE, CA, MT, UT, WY, ID, OR, WA, Transmission System Vegetation Management Program, Implementation, Managing Vegetation, Site Specific, Right-of-Way Grant, CA, ID, MT, OR, UT, WA and WY, Due: July 24, 2000, Contact: Stacy Mason (503) 230-5455.

EIS No. 000192, Draft EIS, NPS, FL, Dry Tortugas National Park General Management Plan, Implementation, Monroe County, FL, Due: August 07, 2000, Contact: Richard Ring (305) 242-7710.

EIS No. 200193, Draft Supplement, COE, CA, Guadalupe River Flood Control and Adjacent Streams Investigation, Proposed Modifications to the Guadalupe River Project, Downtown San Jose, Santa Clara County, CA, Due: August 09, 2000, Contact: Nina Bicknese (916) 557-7948.

EIS No. 000194, DRAFT EIS, NRC, UT, Skull Valley Band of Goshute Indians Reservation Project, Construction and Operation of Independent Spent Fuel Storage Installation and Related Transportation Facilities, Permits and Approvals, Tooele County, UT, Due: September 21, 2000, Contact: Scott C. Flanders (301) 415-1172.

EIS No. 000195, Draft EIS, AFS, AK, Madan Timber Sale, Implementation, Tongass National Forest, Wrangell Ranger District, COE Section 404 Permit and NPDES Permit, AK, Due: August 15, 2000, Contact: Richard Cozby (907) 874-2323.

EIS No. 000196, Draft EIS, NPS, MN, Voyageurs National Park General Management, Visitor Use and Facilities Plans, Implementation, Koochiching and St. Louis Counties, MN, Due: August 23, 2000, Contact: Kathleen Przybylski (219) 283-9821.

EIS No. 000197, Final EIS, FHW, TX, Loop 1 Extension Project, From Farm-to-Market Road FM-734 (Palmer Lander) to I-35, Funding, Travis and Williamson Counties, TX, Due: July 24, 2000, Contact: Walter Waidelich (512) 916-5988.

EIS No. 000198, Draft EIS, FTA, WA, Sound Transit, Lakewood-to-Tacoma Commuter Rail and WA-512 Park and Ride Expansion, Construction and Operation, Central Puget Sound Regional Transit Authority, City of Tacoma and City of Lakewood, WA, Due: August 12, 2000, Contact: Helen Knoll (206) 220-7954.

EIS No. 000199, Final EIS, COE, FL, Programmatic EIS—Rock Mining—Freshwater Lakebelt Plan, Limestone Mining Permit, Section 404 Permit, Implementation, Miami-Dade County, FL , Due: July 24, 2000, Contact: William Porter (904) 232-2259.

EIS No. 000200, Final EIS, BLM, ID, Dry Valley Mine—South Extension Project, Construction of two New Open Pit Mine, Special-Use-Permit, COE Section 404 Permit, Public and Private Land Used, Caribou County, ID, Due: July 24, 2000, Contact: Jeff Cundick (208) 478-6354. The US Army National Guard Bureau and the US Air Force are Joint Lead Agencies for the above project.

Amended Notices

EIS No. 000130, Draft EIS, FHW, MO, New Mississippi River Crossing, Relocated I-70 and I-64 Connector, Funding, COE Section 404 and 10 Permits and NPDES Permit, St. Louis County, MO, Due: July 31, 2000, Contact: Ronald C. Marshall (217) 492-4600.

Revision of FR notice published on 05/12/2000: CEQ Comment Date has been Extended from 06/20/2000 to 07/31/2000.

Dated: June 20, 2000.
Joseph C. Montgomery,
Director, NEPA Compliance Division, Office of Federal Activities.

[FR Doc. 00-15978 Filed 6-22-00; 8:45 am]

BILLING CODE 6560-50-P